DEPARTMENT OF COMMERCE

National Oceanic and Atmospheric Administration

[I.D. 071904E]

Fisheries of the Caribbean, Gulf of Mexico, and South Atlantic; Final Environmental Impact Statement Addressing Essential Fish Habitat Requirements of the Fishery Management Plans of the Gulf of Mexico

AGENCY: National Marine Fisheries Service (NMFS), National Oceanic and Atmospheric Administration (NOAA), Commerce.

ACTION: Notice of availability of a Record of Decision.

SUMMARY: In compliance with the National Environmental Policy Act of 1969, NMFS announces the availability of a Record of Decision (ROD) regarding a final environmental impact statement (FEIS) that was prepared to determine whether to amend the fishery management plans of the Gulf of Mexico Fishery Management Council to address essential fish habitat (EFH) requirements of the Magnuson-Stevens Fishery Conservation and Management Act (Magnuson-Stevens Act). This ROD documents the decision by NMFS to proceed with such an amendment to describe and identify EFH for each fishery; identify other actions to encourage the conservation and enhancement of such EFH; and identify measures to prevent, mitigate, or minimize to the extent practicable the adverse effects of fishing on such EFH.

ADDRESSES: Copies of the ROD and the FEIS can be obtained from Dr. Richard Leard, Deputy Executive Director, Gulf of Mexico Fishery Management Council, The Commons at Rivergate, 3018 U.S. Highway 301 North, Suite 1000, Tampa, FL 33619-2266; telephone 813-228-2815; fax 813-225-7015.

FOR FURTHER INFORMATION CONTACT: Richard Leard, Council staff contact, 813-228-2815, or David Dale, NMFS staff contact, 727-570-5317, fax: 727-570-5300; email: david.dale@noaa.gov.

SUPPLEMENTARY INFORMATION: NMFS Southeast Region was the lead agency responsible for preparing, under third party contract, an FEIS for the Generic Essential Fish Habitat Amendment (EFH Amendment) for the shrimp, red drum, reef fish, stone crab, and coral and coral reef fishery management plans for the Gulf of Mexico and the spiny lobster and coastal migratory pelagic fishery management plans for the Gulf of Mexico and South Atlantic. The FEIS evaluates alternatives for bringing the EFH Amendment into compliance with the EFH mandates of the Magnuson-Stevens Act. For each of the fisheries, the FEIS analyzes a range of potential alternatives to: (1) describe and identify EFH for the fishery; (2) identify other actions to encourage the conservation and enhancement of such EFH; and (3) identify measures to minimize, to the extent practicable, the adverse effects of fishing on such EFH. The FEIS contains the methods and data used in the analyses; background information on the physical, biological, human, and administrative environments; and a description of the fishing and non-fishing threats to EFH. The notice of availability of the FEIS was published on June 25, 2004 (69 CFR 35597).

The ROD documents NMFS's decision to proceed, in cooperation with the Gulf of Mexico Fishery Management Council (Council) and the South Atlantic Fishery Management Council for the joint fishery management plans, with amending the shrimp, red drum, reef fish, stone crab, and coral and coral reef fishery management plans for the Gulf of Mexico and the spiny lobster and coastal migratory pelagic fishery management plans for the Gulf of Mexico and South Atlantic to implement the Council's preferred alternatives for identifying EFH and identifying habitat areas of particular concern, and preventing, mitigating, or minimizing the adverse effects of fishing on EFH. The ROD identifies all alternatives considered in reaching the decision, specifies the alternatives which were considered to be environmentally preferable, and identifies and discusses relevant factors which were balanced by NMFS in making its decision. A copy of the ROD will be mailed to individuals, agencies, or companies that commented on the draft and final EISs. In addition, copies of the ROD and FEIS are available from the Council (see ADDRESSES).

Authority: 16 U.S.C. 1801 et seq.

Dated: July 23, 2004.
Rebecca Lent,
Deputy Assistant Administrator for Regulatory Programs, National Marine Fisheries Service.

[FR Doc. 04-17317 Filed 7-28-04; 8:45 am]

BILLING CODE 3510-22-S